DEPARTMENT OF ENERGY

Federal Energy Regulatory Commission

[Docket No. CP10-16-000]

Cadeville Gas Storage, LLC; Notice of Availability of the Environmental Assessment for the Proposed Cadeville Gas Storage Project

April 30, 2010.

The staff of the Federal Energy Regulatory Commission (FERC or Commission) has prepared an environmental assessment (EA) for the Cadeville Gas Storage Project proposed by Cadeville Gas Storage, LLC (Cadeville) in the above referenced docket. Cadeville requests authorization to convert a depleted natural gas production field into a multi-cycle natural gas storage facility located in Ouachita Parish, Louisiana.

The EA assesses the potential environmental effects of the construction and operation of the Cadeville Gas Storage Project in accordance with the requirements of the National Environmental Policy Act. The FERC staff concludes that approval of the proposed project, with appropriate mitigating measures, would not constitute a major federal action significantly affecting the quality of the human environment.

The proposed Cadeville Gas Storage Project includes the following facilities:

• Eight new natural gas injection/withdrawal wells and the conversion of three existing wells to observation wells;

• A storage field pipeline network and associated aboveground facilities including launcher/receiver facilities and valve sites;

• One compressor station, comprised of five 4,735 horsepower natural gas fueled engines with air intake filters/silencers, critical grade exhaust silencer/catalyst, a triethylene glycol dehydration system, control and safety systems, and associated facilities;

• An approximate 2.6-mile, 16-inch-diameter header pipeline connecting the Compressor Station with the facilities of Tennessee Gas Pipeline (Tennessee);

• An approximate 0.9-mile, 16-inch-diameter header connecting the Compressor Station with the facilities of Gulf South Pipeline Company, LP (Gulf South);

• An approximate 6.4 mile, 24-inch-diameter header pipeline connecting the Compressor Station with the facilities of CenterPoint Energy Gas Transmission (CenterPoint); and

• Three metering and regulation stations, one at each interconnection point of the Cadeville Project with Tennessee, CenterPoint and Gulf South.

The storage field piping network would include the South Injection/Withdrawal Pipeline (about 0.2 miles of 20-inch-diameter pipeline), and the North Injection/Withdrawal Pipeline (about 1.4 miles of 16-inch-diameter pipeline).

The EA has been placed in the public files of the FERC and is available for public viewing on the FERC's Web site at http://www.ferc.gov using the eLibrary link. A limited number of copies of the EA are available for distribution and public inspection at: Federal Energy Regulatory Commission, Public Reference Room, 888 First Street, NE., Room 2A, Washington, DC 20426, (202) 502-8371.

Copies of the EA have been mailed to Federal, State, and local government representatives and agencies; elected officials; environmental and public interest groups; Native American tribes; potentially affected landowners and other interested individuals and groups; newspapers and libraries in the project area; and parties to this proceeding.

Any person wishing to comment on the EA may do so. Your comments should focus on the potential environmental effects, reasonable alternatives, and measures to avoid or lessen environmental impacts. The more specific your comments, the more useful they will be. To ensure that your comments are properly recorded and considered prior to a Commission decision on the proposal, it is important that the FERC receives your comments in Washington, DC on or before July 29, 2010.

For your convenience, there are three methods you can use to submit your comments to the Commission. In all instances please reference the project docket number (CP10-16-000) with your submission. The Commission encourages electronic filing of comments and has dedicated eFiling expert staff available to assist you at (202) 502-8258 or efiling@ferc.gov.

(1) You may file your comments electronically by using the Quick Comment feature, which is located on the Commission's Web site at http://www.ferc.gov under the link to Documents and Filings. A Quick Comment is an easy method for interested persons to submit text-only comments on a project;

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file a paper copy of your comments at the following address:

Kimberly D. Bose, Secretary, Federal Energy Regulatory Commission, 888 First Street, NE., Room 1A, Washington, DC 20426.

Although your comments will be considered by the Commission, simply filing comments will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at (866) 208-FERC or on the FERC Web site (http://www.ferc.gov) using the eLibrary link. Click on the eLibrary link, click on “General Search” and enter the docket number excluding the last three digits in the Docket Number field (i.e., CP10-16-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Kimberly D. Bose,
Secretary.

[FR Doc. 2010-11106 Filed 5-10-10; 8:45 am]

BILLING CODE 6717-01-P